DEPARTMENT OF THE INTERIOR

National Park Service

[NPS-WASO-NAGPRA-22083; PPWOCRADN0-PCU00RP14.R50000]

Notice of Intent To Repatriate Cultural Items: Stearns History Museum, Saint Cloud, MN

AGENCY: National Park Service, Interior.

ACTION: Notice.

SUMMARY: The Stearns History Museum, in consultation with the appropriate Indian tribes or Native Hawaiian organizations, has determined that the cultural items listed in this notice meet the definition of sacred objects. Lineal descendants or representatives of any Indian tribe or Native Hawaiian organization not identified in this notice that wish to claim these cultural items should submit a written request to the Stearns History Museum. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the Stearns History Museum at the address in this notice by November 17, 2016.

ADDRESSES: Adam Smith, Stearns History Museum, 235 South 33rd Avenue, Saint Cloud, MN 56301, telephone (320) 253-8424, email asmith@stearns-museum.org.

SUPPLEMENTARY INFORMATION: Notice is here given in accordance with the Native American Graves Protection and Repatriation Act (NAGPRA), 25 U.S.C. 3005, of the intent to repatriate cultural items under the control of the Stearns History Museum, Saint Cloud, MN that meet the definition of sacred objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

On an unknown date in 1902, two cultural items were removed from the White Earth Band of the Minnesota Chippewa Tribe in Mahnomen, Clearwater and Becker Counties, MN. In 1902, William Wynkoop Smith collected the cultural items during his visit to the White Earth Band of the Minnesota Chippewa Tribe. The items remained in the Smith home in Saint Cloud, MN and later Cold Spring, MN. In 1982, Smith donated the items to the museum. The two sacred objects are ceremonial clubs. When the items were donated to the museum in 1982, the Curator identified them as Anishinaabe. Further research into beadwork and design confirm the items are of Anishinaabe origin.

At an unknown date between 1930 and 1982, three cultural items were removed from the White Earth Band of the Minnesota Chippewa Tribe in Mahnomen, Clearwater and Becker Counties, MN. The three sacred objects are one drum, one rattle and one headband. The drum was owned by Charlotte Fineday Broker, a member of the White Earth Band of the Minnesota Chippewa Tribe who lived with the White Earth Band of the Minnesota Chippewa Tribe her entire life. Broker died in 1951 and her daughter-in-law Martha Aspinwall Broker, also a member of the White Earth Band of the Minnesota Chippewa Tribe, acquired the item. Martha married Charlotte's son Robert in 1918, moved to Royalton, MN by 1930 and St. Cloud, MN by 1943. It is unclear when, between 1930 and 1982, the three sacred objects left the White Earth Band of the Minnesota Chippewa Tribe. In 1982, Martha Broker donated all three items to the museum.

Determinations Made by the Stearns History Museum

Officials of the Stearns History Museum have determined that:

• Pursuant to 25 U.S.C. 3001(3)(C), the 5 cultural items described above are specific ceremonial objects needed by traditional Native American religious leaders for the practice of traditional Native American religions by their present-day adherents.

• Pursuant to 25 U.S.C. 3001(2), there is a relationship of shared group identity that can be reasonably traced between the sacred objects and White Earth Band of the Minnesota Chippewa Tribe.

Additional Requestors and Disposition

Lineal descendants or representatives of any Indian tribe or Native Hawaiian organization not identified in this notice that wish to claim these cultural items should submit a written request with information in support of the claim to Adam Smith, Stearns History Museum, 235 South 33rd Avenue, Saint Cloud, MN 56301, telephone (320) 253-8424, email asmith@stearns-museum.org, by November 17, 2016. After that date, if no additional claimants have come forward, transfer of control of the sacred objects to White Earth Band of the Minnesota Chippewa Tribe may proceed.

The Stearns History Museum is responsible for notifying the White Earth Band of the Minnesota Chippewa Tribe that this notice has been published.

Dated: October 6, 2016.
Melanie O'Brien,
Manager, National NAGPRA Program.

[FR Doc. 2016-25127 Filed 10-17-16; 8:45 am]

BILLING CODE 4310-52-P